DEPARTMENT OF THE INTERIOR

Office of Surface Mining Reclamation and Enforcement

30 CFR Part 948

[SATS No. WV-118-FOR (partial); Docket ID: OSM-2011-0009; SATS No. WV-126-FOR; Docket ID: OSM-2019-0012; S1D1S SS08011000 SX064A000 220S180110; S2D2S SS08011000 SX064A000 220XS501520]

West Virginia Regulatory Program; Correction

AGENCY: Office of Surface Mining Reclamation and Enforcement, Interior.

ACTION: Final rule; correction.

SUMMARY: We, the Office of Surface Mining Reclamation and Enforcement (OSMRE), published a document in the Federal Register on March 18, 2024, approving in part, and not approving in part, amendments to the West Virginia regulatory program (the West Virginia program) under the Surface Mining Control and Reclamation Act of 1977 (SMCRA or the Act).

DATES: This correction is effective August 28, 2024.

FOR FURTHER INFORMATION CONTACT: Mr. Michael Castle, Acting Director, Charleston Field Office, Telephone: (859) 260-3900. Email: osm-chfo@osmre.gov.

SUPPLEMENTARY INFORMATION: In the final rule published Monday, March 18, 2024, in FR Doc. 2024-05682, on page 19273, column 2, a revision to 30 CFR 948.12 (State statutory, regulatory, and proposed program amendment provisions not approved) that revised paragraph (k) will be corrected to instead add that provision as new paragraph (l). Additionally, we are revising paragraph (k) to reinstate the deferral as it existed in the CFR prior to the publication of the Federal Register document. See also 89 FR 2133 (Jan. 12, 2024). We are also adding paragraph 38-2-12.5.d of West Virginia's regulations to the table at 30 CFR 948.15 (Approval of West Virginia regulatory program amendments). We had approved its deletion from West Virginia's regulations in the March 18, 2024, Federal Register, but it was omitted from the table.

Federal Register Correction

§ 948.12 [Corrected]

1. Effective April 17, 2024, in FR Doc. 2024-05682 at 89 FR 19262 in the issue of March 18, 2024, on page 19273, in the second column, amendatory instruction 2 is corrected to read: “Section 948.12 is amended by adding paragraph (l) to read as follows:”

2. On page 19273, in the second and third columns, § 948.12 is corrected to read:

* * * * *

(k) We are not approving the following portions of provisions of the proposed program amendment that West Virginia submitted on May 15, 2017:

(1) We are deferring our decision on the deletion of provisions from W.Va. Code 22-3-11(g)(2) regarding the development of a long-range planning process for the selection and prioritization of sites to be reclaimed. We defer our decision until we make a determination on West Virginia's related amendment docketed as WV-128-FOR, which relates to the complete and accurate listing of all outstanding reclamation obligations (including water treatment on active permits in the State.

(2) [Reserved]

(l) We are not approving the following provisions of the proposed West Virginia program amendments dated May 2, 2018:

(1) At W.Va. Code 22-3-9, revisions substituting notice by newspaper with notice in a form and manner determined by the Secretary which may be electronic.

(2) At W.Va. Code 22-3-20, revisions substituting notice by newspaper with notice in a form and manner determined by the Secretary which may be electronic.

(3) At CSR 38-2-2.37, the removal of the definition “completion of reclamation”.

(4) At CSR 38-2-12.2.d., the elimination to the existing prohibition on bond release for any site specific bonding (i.e., open-acre bonding) until all coal extraction is completed and the disturbed area is completely backfilled and regraded.

(5) At CSR 38-2-12.2.e., to restructure and revise existing approved language in this section and move it to CSR 38-2-12.2.a.4.

(6) At CSR 38-2-12.2.f., to move, unchanged, this existing language to CSR 38-2-12.2.d.

(7) At CSR 38-2-12.2.g., to move, unchanged, this existing language to CSR 38-2-12.2.f.

(8) At CSR 38-2-12.2.h., to renumber existing CSR 38-2-12.2.h to 12.2.i. and to insert it as a new CSR 38-2-12.2.h.

(9) At CSR 38-2-12.4.c., to eliminate an existing 180 day window for initiating reclamation operations to reclaim the site in accordance with the approved reclamation plan or modification thereof.

(10) At CSR 38-2-12.5., to delete subsection 12.5 of the West Virginia regulations, which directs WVDEP's collection, analysis and reporting on sites where bond has been forfeited including, in particular, data relating to the water quality of water being discharged from forfeited sites.

§ 948.15 [Corrected]

3. On page 19273, in the table, § 948.15 is corrected to read as follows:

* * * * *

Original amendment submission dates | Date of publication of final rule | Citation/description of approved provisions
April 25, 2011 May 8, 2018 | March 18, 2024 | CSR 38-2-2.6; 9.3.d; 11.3.f; 11.4; 11.6; 12.2.a, 12.5.b, c and d; 12.4.a.2.B, 12.4.b, 4.b.1 and 4.b.2; 12.4.d; 14.5.b

Thomas D. Shope,
Regional Director, North Atlantic-Appalachian Region.

[FR Doc. 2024-19049 Filed 8-27-24; 8:45 am]

BILLING CODE 4310-05-P